DEPARTMENT OF THE INTERIOR

Bureau of Land Management

[CO-170-00N1220-DA]

Notice of Intent To Amend the San Juan/San Miguel Resource Management Plan

AGENCY: Bureau of Land Management, Interior.

ACTION: Notice of Intent to Amend the San Juan/San Miguel Resource Management Plan, and prepare an Environmental Assessment (EA).

SUMMARY: The Bureau of Land Management (BLM) announces the initiation of a Resource Management Plan (RMP) Amendment for the Grandview Ridge Coordinated Resource Management Plan, affecting approximately 1,600 acres of BLM administered public land. The proposed action has been reviewed for conformance with the San Juan Field Office Resource Management Plan (43 CFR 1610.5, BLM 1617.3). The proposed action would amend certain portions of the plan as follows: (1) Motorized use would be limited to access for oil/gas development and maintenance, use and maintenance of existing ROWs, wildlife habitat improvement projects, and administrative use, (2) Recreation emphasis would be added to the existing Wildlife and Mineral emphasis, and (3) the Mineral emphasis for sand and gravel development would be reduced from 400 to 160 acres.

ADDRESSES: To obtain copies of the Proposed Plan Amendment/EA and Finding of No Significant Impact and for further information, contact Calvin N. Joyner, Bureau of Land Management (BLM) San Juan Public Lands Center, Durango, Colorado 81301; Telephone (970) 247-4874.

DATES: This notice initiates a 30 day public comment period on the proposed plan amendment and finding of no significant impact.

SUPPLEMENTARY INFORMATION: The BLM conducted an open house on November 5, 1998, and written comments were received until January 30, 1999, to identify issues to be evaluated and to determine if new issues and circumstances warranted amending the RMP. The Grandview Ridge Coordinated Resource Management Area includes the following public lands totaling approximately 1,600 acres: In New Mexico Principal Meridian: T.34N., R.9W., Section 3 SE¼ NW¼: Lots 5, 6, 7, 8, 9, 10, 11, 12 & 13.; Section 4: Lots 5, 6, 7, 8, 9, 10, 11 & 12; Section 9: 1, 2 4 & 5; Section 10: NW¼ NW¼. T.34N., R.9W., Section 34. T.35N., R.9w., Section 26: SE¼ NE¼, SE¼ SW¼, W¼ SE¼; Section 34: Lots 6, 9, 13, 14 & 15; Section 35: W½ NW¼.

In accordance with Section 202 of FLPMA, the San Juan RMP will be reviewed and potentially amended. The first step in this process involved soliciting public input to identify issues to be evaluated in the process. Issue identification is integral to the EA and amendment process, and was utilized to focus on relevant environmental concerns, identify controversy over resource management activities and identify alternative management for the area. The issues addressed by this Plan Amendment/EA include safety, resource protection, cultural resources, wildlife habitat, mineral development, and recreational opportunities. Following completion of issue identification, the BLM identified alternatives to be analyzed and planning criteria to guide the plan amendment process. Additional public input was solicited at a later date to complete these steps in the process. Planning criteria are the standards, rules, and other factors used in formulating judgements about data collection, analysis, and decision making. These criteria establish parameters and help focus the amendment process. The proposed planning criteria include:

1. All proposed actions and alternatives considered must comply with current laws and Federal Regulations.

2. The resource allocations of proposed actions will be made in accordance with the principles of “multiple use” as defined in the Federal Land Policy and Management Act of 1976 (FLPMA), Sec. 103(c).

3. The Proposed Plan Amendment will consider the relatively scarcity of the values involved and the availability of alternative means and sites for realization of those values.

4. This planning process provided for public involvement including early notice and frequent opportunity for citizens and interested groups and others to participate in and comment on the preparation of plans and related guidance.

5. To the extent possible under Federal law, and within the framework of proper long-term management of the public lands, BLM will strive to ensure that its management prescriptions and planning actions take into consideration related programs, plans, or policies of other resource agencies. This will include the formal consistency review by the Governor of Colorado.

6. BLM provided local, State and Federal agencies a copy of the Draft EA with a written request to comment. Agencies may identify in writing any inconsistencies with formally approved land use plans or related jurisdictions.

7. Planning decisions will apply only to BLM administered public lands.

8. All valid existing rights will continue to be recognized.

Dated: April 24, 2000.
Calvin N. Joyner,
Field Manager, San Juan Field Office.

[FR Doc. 00-11265 Filed 5-4-00; 8:45 am]

BILLING CODE 4310-JB-P